DEPARTMENT OF COMMERCE

National Oceanic and Atmospheric Administration

[I.D. 020801D]

Marine Mammals; File No. 990-1603-00

AGENCY: National Marine Fisheries Service (NMFS), National Oceanic and Atmospheric Administration (NOAA), Commerce.

ACTION: Issuance of permit.

SUMMARY: Notice is hereby given that John Muir Institute of the Environment, University of California, Davis, One Shields Avenue, Davis, California 95616 (Principal Investigator: Ms. Lizabeth Bowen) has been issued a permit to import/export California sea lion (Zalophus californianus) blood samples from Mexico and to France for purposes of scientific research.

ADDRESSES: The permit and related documents are available for review upon written request or by appointment in the following office(s):

Permits and Documentation Division, Office of Protected Resources, NMFS, 1315 East-West Highway, Room 13705, Silver Spring, MD 20910 (301/713-2289); and

Regional Administrator, Southwest Region, NMFS, 501 West Ocean Blvd., Suite 4200, Long Beach, CA 90802-4213 (562/980-4001);

FOR FURTHER INFORMATION CONTACT: Ruth Johnson or Tammy Adams 301/713-2289.

SUPPLEMENTARY INFORMATION: On October 11, 2000, notice was published in the Federal Register (65 FR 60411) that a request for a scientific research permit to import/export California sea lion blood samples had been submitted by the above-named organization. The requested permit has been issued under the authority of the Marine Mammal Protection Act of 1972, as amended (16 U.S.C. 1361 et seq.) and the Regulations Governing the Taking and Importing of Marine Mammals (50 CFR part 216).

Dated: February 21, 2001.
Eugene Nitta,
Acting Chief, Permits and Documentation Division, Office of Protected Resources, National Marine Fisheries Service.

[FR Doc. 01-4746 Filed 2-26-01; 8:45 am]

BILLING CODE 3510-22-S